ENVIRONMENTAL PROTECTION AGENCY

[ER-FRL-6650-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-AFS-L65443-OR Rating EO2, Biscuit Fire Recovery Project, various management activities alternatives, implementation, Rogue River and Siskiyou National Forests, Josephine and Curry Counties, OR.

Summary: EPA expressed environmental objections with adverse impacts to water quality under the preferred alternative. Impacts from increased sediment delivery to already impaired surface waters could cause long term exceedances in State Water Quality standards and effects on designated beneficial uses (salmonid rearing). EPA's other concerns included impacts to waters in the Northwest Forest Plan-designated key watersheds, Wild and Scenic Rivers, and potential wilderness values in Inventoried Roadless Areas.

ERP No. D-FHW-F40420-MN Rating EC2, I-94/TH-10 Interregional connection from St. Cloud to Becker, transportation improvements, funding and U.S. Army COE section 404 permit, in the cities of Becker and St. Cloud, Sherburn, Stearns and Wright Counties, MN.

Summary: EPA has environmental concerns with the proposed project related to the secondary land use and cumulative impacts associated with the project. EPA also recommends that a mitigation plan with specific mitigation measures be developed and included in the FEIS for the preferred alternative identified.

ERP No. D-IBR-K65262-CA Rating EC2, Lake Berryessa Visitor Services Plan, future use and operation, Solano Project Lake Berryessa, Napa County, CA.

Summary: EPA expressed environmental concerns that significant increases in visitor use under the proposed VSP could result in negative impacts to air and water quality. EPA requested information on estimated future use and environmental impacts be included in the FEIS.

Final EISs

ERP No. F-AFS-C65003-PR, Caribbean National Forest, Rio Sabana picnic area construction, Rio Sabana Trail Reconstruction and PR-191 Highway Reconstruction from km.21.3 to km 20.0, implementation and special-use permit issuance, PR.

Summary: Based upon the additional information provided in the final EIS, EPA does not have any objections to the implementation of the preferred alternative.

ERP No. F-AFS-J65383-MT, Logan Creek Ecosystem Restoration Project, hazardous fuel reduction across the landscape and vegetation management restoration or maintenance, Flathead National Forest, Tally Lake Ranger District, Flathead County, MT.

Summary: EPA expressed environmental concerns with short-term water quality effects of road construction and vegetation treatments. However, modifications to the preferred alternative should improve water quality and fisheries habitat, and reduce risk of severe wildfire over the long term.

ERP No. F-AFS-J65388-UT, North Rich Cattle Allotment, proposal to authorize grazing, implementation, Logan District, Wasatch-Cache National Forest, Cache and Rich Counties, UT.

Summary: EPA continued to express environmental concerns about impacts to water quality and aquatic resources, soil resources, and wildlife habitat.

ERP No. F-AFS-J65391-WY, Blackhall-McAnulty Analysis Area, proposal to reduce the spread of Dwarf Mistletoe and Mountain Pine Beetle in Lodgepole Pine Stands, Brush Creek/ Hayden Ranger District, Medicine Bow-Routt National Forests and Thunder Basin National Grassland, Carbon County, WY.

Summary: EPA continued to express environmental concerns with disturbances to terrestrial habitat and watersheds and impacts within the project area. The final EIS did however propose to minimize impacts on the landscape and decommission roads while meeting project goals.

ERP No. F-AFS-K61158-CA, Silver Pearl Land Exchange Project, proposal to exchange 2,153 acres of National Forest System (NFS) land for up to 3,963 acres of Sierra Pacific Industries (SPI) land within the boundary of Eldorado National Forest, Eldorado and Placer Counties, CA.

Summary: The final EIS adequately addresses issues raised in our comment letter on the DEIS.

ERP No. F-AFS-K65260-AZ, Rodeo-Chediski Fire Salvage Project, timber harvest of merchantable dead trees as sawtimber and products other than lumber (POL), implementation, Apache-Sitgreaves and Tonto National Forests, Apache, Coconino and Navajo Counties, AZ.

Summary: EPA continues to express environmental concerns regarding cumulative impacts and potential impacts to watershed conditions.

ERP No. F-AFS-L65426-OR, Flagtail Fire Recovery Project, addressing the differences between existing and desired conditions, Blue Mountain Ranger District, Malheur National Forest, Grant County, OR.

Summary: No formal comment letter was sent to the preparing agency.

ERP No. F-FRC-H03000-00, Cheyenne Plains Pipeline Project, natural gas transmission pipeline construction and operation, NPDES permit and U.S. Army COE section 404 permit issuance, several counties, CO and several counties, KS.

Summary: EPA has no objection to the proposed action since previous issues were resolved.

ERP No. FA-COE-E36167-FL, Central and Southern Florida Project, Tamiami Trail Feature (US Highway 41), modified water deliveries to Everglades National Park, Dade County, FL.

Summary: EPA has no environmental objections to the measures proposed to protect the Tamiami roadway.

Dated: April 6, 2004.
Ken Mittelholtz,
Environmental Protection Specialist, Office of Federal Activities.

[FR Doc. 04-8098 Filed 4-8-04; 8:45 am]

BILLING CODE 6560-50-P